DEPARTMENT OF TRANSPORTATION

Surface Transportation Board

[STB Finance Docket No. 34026]

Summit View, Inc.—Control Exemption—Mahoning Valley Railroad Company

AGENCY: Surface Transportation Board, DOT.

ACTION: Notice of exemption.

SUMMARY: Under 49 U.S.C. 10502, the Board exempts from the prior approval requirements of 49 U.S.C. 11323, et seq., the acquisition by Summit View, Inc. (Summit) of control of Class III rail carrier Mahoning Valley Railroad Company (MVRC). Summit is a noncarrier holding company that controls eight Class III rail carriers.¹ MVRC's capital stock is owned by Cuyahoga Valley Railway Company which, in turn, is a wholly owned subsidiary of LTV Steel Company (LTV).² On March 28, 2001, Summit submitted to the Board for review and an informal opinion under 49 CFR 1013 a proposed voting trust agreement ³ to be entered into by Summit and MVRC.⁴ Summit requests expedited action on the exemption petition. This request is addressed in the Board's decision.

¹ Ohio Central Railroad, Inc., Ohio Southern Railroad, Inc., Youngstown Belt Railroad, Inc., Warren & Trumbull Railroad, Ohio & Pennsylvania Railroad, Youngstown & Austintown Railroad, Pittsburgh & Ohio Central Railroad, and Columbus & Ohio River Railroad Company.

² LTV, MVRC's largest shipper, is presently engaged in voluntary reorganization proceedings under Chapter 11 of the U.S. Bankruptcy Code. LTV has sought and secured conditional approval from the Bankruptcy Court to sell MVRC and other non-core assets as promptly as practicable in order to streamline LTV's operations and emerge a stronger and more efficient organization by selling a number of assets that are either unproductive or nonessential.

³ A corrected copy of the agreement was submitted on April 3, 2001.

⁴ On April 12, 2001, the Board's Secretary, Vernon A. Williams, issued an informal opinion in which he concluded that the voting trust “effectively insulates Summit and its subsidiaries and affiliates from unauthorized control of MVRC.”

DATES: The exemption will be effective June 1, 2001. Petitions for stay must be filed by May 22, 2001. Petitions for reconsideration must be filed by June 6, 2001.

ADDRESSES: Send an original and 10 copies of any pleadings referring to STB Finance Docket No. 34026 to: Surface Transportation Board, Office of the Secretary, Case Control Unit, 1925 K Street, NW., Washington, DC 20423-0001. In addition, send one copy of any pleadings to petitioner's representatives: Kelvin J. Dowd and Andrew B. Kolesar III, 1224 Seventeenth St., NW., Washington, DC 20036.

FOR FURTHER INFORMATION CONTACT: Joseph H. Dettmar (202) 565-1600 [TDD for the hearing impaired: 1-800-877-8339.]

SUPPLEMENTARY INFORMATION: Additional information is contained in the Board's decision. To purchase a copy of the full decision, write to, call, or pick up in person from: Dā-to-Dā Office Solutions, 1925 K Street NW., Suite 210, Washington, DC 20006. Telephone: (202) 756-1649. [Assistance for the hearing impaired is available through TDD services 1-800-877-8339.]

Board decisions and notices are available on our website at WWW.STB.DOT.GOV.”

Decided: May 11, 2001.
By the Board, Chairman Morgan, Vice Chairman Clyburn, and Commissioner Burkes.
Vernon A. Williams,
Secretary.

[FR Doc. 01-12346 Filed 5-16-01; 8:45 am]

BILLING CODE 4915-00-P